FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 015390N.

Name: American National Shipping Line, Inc.

Address: 214-77 Jamaica Avenue, Queens Village, NY 11428.

Date Revoked: May 19, 2006.

Reason: Failed to maintain a valid bond.

License Number: 008836N.

Name: Aras International, Inc. dba Umac Express Cargo of San Diego.

Address: 3126 E. Plaza Blvd., Suite F, National City, CA 91950.

Date Revoked: May 14, 2006.

Reason: Failed to maintain a valid bond.

License Number: 016805F.

Name: E.I.B. Brokers, Inc.

Address: 2550 NW 72nd Avenue, Suite 315, Miami, FL 33122.

Date Revoked: May 24, 2006.

Reason: Failed to maintain a valid bond.

License Number : 018087NF.

Name: Krystal Logistics USA, Inc.

Address: 11700 NW 101 Road, Suite #6, Miami, FL 33178

Date Revoked: March 29, 2006.

Reason: Failed to maintain valid bonds.

License Number : 016802N.

Name: Peninsula Cargo, Inc.

Address: 6826 Somerset Blvd., Unit 7, Paramount, CA 90723.

Date Revoked: May 14, 2006.

Reason: Failed to maintain a valid bond.

License Number : 018526N.

Name: Topocean Consolidation Services (New York), Inc.

Address: 181 South Franklin Avenue, #204, Valley Stream, NY 11581.

Date Revoked: May 24, 2006.

Reason: Failed to maintain a valid bond.

License Number : 018351N.

Name: Trans Global—NA USA, Inc.

Address: 1185 Morris Avenue, Union, NJ 07083.

Date Revoked: May 17, 2006.

Reason: Surrendered license voluntarily.

License Number: 009601N.

Name: Worldwide Exhibition Services, Inc.

Address: 225 Broadway, Suite 2100, New York, NY 10007.

Date Revoked: May 18, 2006.

Reason: Failed to maintain a valid bond.

Peter J. King,
Deputy Director, Bureau of Certification and Licensing.

[FR Doc. E6-8835 Filed 6-6-06; 8:45 am]

BILLING CODE 6730-01-P